FEDERAL ELECTION COMMISSION

Sunshine Act Meetings Notice

Date and Time: Thursday, March 1, 2007, at 10 a.m.

Place: 999 E Street, NW., Washington, DC (Ninth Floor).

Status: This meeting will be open to the public.

Items to be Discussed: Correction and Approval of Minutes.

Advisory Opinion 2007-03: Senator Barack Obama and the Obama Exploratory Committee by counsel, Robert F. Bauer and Rebecca Gordon, of Perkins Coie LLP. Statement of Policy Regarding Commission Action in Matters at the Initial Stage in the Enforcement Process.

Management and Administrative Matters.

Person to Contact for Information: Mr. Robert Biersack, Press Officer, Telephone: (202) 694-1220.

Mary W. Dove,
Secretary of the Commission.

[FR Doc. 07-888 Filed 2-22-07; 2:26 pm]

BILLING CODE 6715-01-M